NUCLEAR REGULATORY COMMISSION

[Docket Nos. 50-413 and 50-414; NRC-2011-0116]

Duke Energy Carolinas, LLC; Notice of Withdrawal of Application for Amendment to Facility Operating License

The U.S. Nuclear Regulatory Commission (the Commission, NRC) has granted the request of Duke Energy Carolinas, LLC (the licensee) to withdraw its May 20, 2010, application, as supplemented by letter dated January 19, 2011, for proposed amendment to Renewed Facility Operating License Nos. NPF-35 and NPF-52 for the Catawba Nuclear Station, Unit Nos. 1 and 2, located in York County, South Carolina.

The proposed amendment would have revised the Technical Specifications to allow the reactor building pressure boundary to be opened under administrative controls.

The Commission had previously issued a Notice of Consideration of Issuance of Amendment published in the Federal Register on January 25 (76 FR 4383). However, by letter dated February 2, 2011, the licensee withdrew the proposed change.

For further details with respect to this action, see the application for amendment dated May 20, 2010, as supplemented by letter dated January 19, 2011, and the licensee's letter dated February 2, 2011, which withdrew the application for license amendment. Documents may be examined, and/or copied for a fee, at the NRC's Public Document Room (PDR), located at One White Flint North, Public File Area O1 F21, 11555 Rockville Pike (first floor), Rockville, Maryland. Publicly available documents created or received at the NRC are available online in the NRC library http://www.nrc.gov/reading-rm/adams.html. Persons who do not have access to the Agencywide Documents Access and Management System (ADAMS) or who encounter problems in accessing the documents located in ADAMS should contact the NRC PDR Reference staff by telephone at 1-800-397-4209, or 301-415-4737 or by e-mail to pdr.resource@nrc.gov.

Dated at Rockville, Maryland this 19th day of May 2011.
For the Nuclear Regulatory Commission.
Jon Thompson,
Project Manager, Plant Licensing Branch II-1, Division of Operating Reactor Licensing, Office of Nuclear Reactor Regulation.

[FR Doc. 2011-13053 Filed 5-25-11; 8:45 am]

BILLING CODE 7590-01-P